DEPARTMENT OF ENERGY

Federal Energy Regulatory Commission

[Docket No. RP04-366-000]

Iroquois Gas Transmission System, L.P.; Notice of Proposed Change in FERC Gas Tariff

July 8, 2004.

Take notice that on July 1, 2004, Iroquois Gas Transmission System, L.P. (Iroquois) tendered for filing the following revised sheet to its FERC Gas Tariff, First Revised Volume No. 1, to be effective on August 1, 2004:

Fourteenth Revised Sheet No. 4A

Sixth Revised Sheet No. 11B

Fifth Revised Sheet No. 14

Fifth Revised Sheet No. 15

Seventh Revised Sheet No. 27

Fifth Revised Sheet No. 29

Third Revised Sheet No. 75

First Revised Sheet No. 75E

Third Revised Sheet No. 144

Fifth Revised Sheet No. 162

Iroquois states that the purpose of Iroquois' instant filing provides for the elimination of the Gas Research Institute (GRI) surcharge (set forth in section 12.1 of the General Terms and Conditions) from the tariff.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1553 Filed 7-13-04; 8:45 am]

BILLING CODE 6717-01-P